DEPARTMENT OF EDUCATION

Applications for New Awards; Performance Partnership Pilots

AGENCY: Office of Career, Technical, and Adult Education, Department of Education

ACTION: Notice.

Overview Information:

Performance Partnership Pilots.

Notice inviting applications for new awards for fiscal year (FY) 2014.

Catalog of Federal Domestic Assistance (CFDA) Number: 84.420A.

DATES:

Applications Available: November 24, 2014.

Deadline for Notice of Intent to Apply: January 8, 2015.

Note: Submission of a notice of intent to apply is optional.

Deadline for Transmittal of Applications: March 4, 2015.

Deadline for Intergovernmental Review: May 4, 2015.

Full Text of Announcement

I. Funding Opportunity Description

Purpose of Program: The Performance Partnership Pilots (P3) program, authorized by the Consolidated Appropriations Act, 2014, Division H, Section 526 (the Act), will enable up to ten pilot sites to test innovative, outcome-focused strategies to achieve significant improvements in educational, employment, and other key outcomes ¹ for disconnected youth ² using new flexibility to blend ³ existing Federal funds and to seek waivers ⁴ of associated program requirements. P3 pilots will receive start-up grants to support ongoing planning, streamlined governance, strengthened data infrastructure, improved coordination, and related activities to help pilots improve outcomes for disconnected youth.

¹ Outcomes are the intended results of a program, or intervention. They are what you expect your project to achieve. An outcome can be at the participant level (for example, changes in employment retention or earnings of disconnected youth) or at the system level (for example, improved efficiency in program operations or administration).

² The Act defines “disconnected youth” as individuals between the ages of 14 and 24 who are low-income, and either homeless, in foster care, involved in the juvenile justice system, unemployed, or not enrolled in, or at risk of dropping out of, an educational institution.

³ Blending funds is a funding and resource allocation strategy that uses multiple existing funding streams to support a single initiative or strategy. Blended funding merges two or more funding streams, or portions of multiple funding streams, to produce greater efficiency and/or effectiveness. Funds from each individual stream lose their award-specific identity, and the blended funds together become subject to a single set of reporting and other requirements, consistent with the underlying purposes of the programs for which the funds were appropriated.

⁴ A waiver provides flexibility around statutory, regulatory, or administrative requirements to enable a State, locality, or tribe to organize its programs and systems or provide services in ways that best meet the needs of its target populations. Under P3, waivers provide flexibility in exchange for a grantee's commitment to improve programmatic outcomes consistent with underlying statutory authorities and purposes.

Successful pilots will use cost-effective strategies to increase the success of disconnected youth in achieving educational, employment, well-being, and other key outcomes. Through a combination of careful implementation of evidence-based and promising practices, effective administrative structures, alignment of outcomes and performance measures, and more efficient and integrated data systems, P3 may produce better outcomes per dollar by focusing resources on what works, rather than on compliance with multiple Federal program requirements that may not best support outcomes.

Background:

The Act authorizes the Departments of Education (ED), Labor (DOL), and Health and Human Services (HHS), the Corporation for National and Community Service (CNCS) and/or the Institute of Museum and Library Services (IMLS) (collectively, the Agencies), to enter into a total of up to ten Performance Partnership Agreements (performance agreements) with State, local, or tribal governments ⁵ to provide additional flexibility in using certain of the Agencies' FY 2014 discretionary funds,⁶ including competitive and certain formula grant funds, across multiple Federal programs. Entities that seek to participate in these pilots will have to commit to achieving significant improvements in outcomes for disconnected youth in exchange for this new flexibility. Section 526(a)(2) of the Act states that “ `[t]o improve outcomes for disconnected youth' means to increase the rate at which individuals between the ages of 14 and 24 (who are low-income and either homeless, in foster care, involved in the juvenile justice system, unemployed, or not enrolled in or at risk of dropping out of an educational institution) achieve success in meeting educational, employment, or other key goals.”

⁵ A tribal government must represent a State- or Federally-recognized tribe to be eligible.

⁶ Discretionary funds are funds that Congress appropriates on an annual basis, rather than through a standing authorization. They exclude “entitlement” (or mandatory) programs such as Social Security, Medicare, Medicaid, most Foster Care IV-E programs, and Temporary Assistance to Needy Families (TANF). Discretionary programs administered by the Agencies support a broad set of public services, including education, job training, health and mental health, and other low-income assistance programs.

Government and community partners have invested considerable attention and resources to meet the needs of disconnected youth. However, practitioners, youth advocates, and others on the front lines of service delivery have observed that there are significant programmatic and administrative obstacles to achieving meaningful improvements in education, employment, health, and well-being for these young people. These challenges include: Limited evidence and knowledge of what works to improve outcomes for disconnected youth; poor coordination and alignment across the multiple systems that serve youth; policies that make it hard to target the neediest youth and help them overcome gaps in services; fragmented data systems that inhibit the flow of information to improve results; and administrative requirements that impede holistic approaches to serving this population. Many of these challenges can be addressed by improving coordination among programs and targeting resources to those approaches that achieve the best results for youth. More information on these challenges, approaches to address challenges, and the consultation that the Agencies have conducted with stakeholders on these issues can be found in the P3 Consultation Paper, “Changing the Odds for Disconnected Youth: Initial Design Considerations for Performance Partnership Pilots” (available at www.findyouthinfo.gov/docs/P3_Consultation_Paper_508.pdf).

Performance Partnership Pilots will test the hypothesis that additional flexibility for States, localities, and tribes, in the form of blending funds and obtaining waivers of certain programmatic requirements, can help overcome some of the significant hurdles that States, localities, and tribes may face in providing intensive, comprehensive, and sustained service pathways ⁷ and improving outcomes for disconnected youth. For example, P3 may help address the “wrong pockets” problem, where programs that see improved outcomes or other benefits due to an intervention are unable to provide funds to support that intervention based on program restrictions. P3 funds may also help to build additional evidence that an intervention is successful or to strengthen a foundation of data capacity and performance management. If this hypothesis proves true, providing necessary and targeted flexibility to remove or overcome these hurdles will help to achieve significant benefits for disconnected youth, the communities that serve them, and the agencies and partners that are involved.

⁷ A service pathway is a series of connected service interventions that aim to change behavior and increase knowledge or skills.

Partnerships are critical to pilots' ability to provide innovative and effective service-delivery and systems-change strategies that meet the education, employment, and other needs of disconnected youth. We encourage applicants to build on strong, existing partnerships that have experience in working together to improve outcomes for disconnected youth. Partnerships will vary depending on the nature and focus of individual projects, but may cut across: State, local, and tribal levels of government; education, employment, and other agencies or programs operating within the same level of government; and governmental, non-profit, and other private-sector organizations.

As partnerships work to improve outcomes, meaningful measures and indicators that draw on reliable data will be critical to understanding how well pilots attain their goals. As a result, it is important to make sure that pilots track outcome measures and interim indicators ⁸ that will accurately capture their performance and success and that the pilots have the capacity to collect, access, and analyze these data as Federal, State, and local laws allow.

⁸ An interim indicator is a marker of achievement that demonstrates progress toward an outcome.

For purely illustrative purposes, examples of potential pilots include:

• A State, local or tribal government and its partners could build an integrated enrollment and case-management system that would be used by numerous youth-serving systems (juvenile justice, child welfare, mental health, workforce and vocational rehabilitation systems) in order to better target appropriate services to youth who are served by multiple systems.

• A State, local, or tribal government and its partners could develop and test a coordinated approach to serving youth who are involved in multiple systems that creates joint performance goals, integrates services for vulnerable youth and their families, and aligns conflicting eligibility requirements that currently result in service gaps.

• A State, local, or tribal government and its partners might implement systems change by establishing cross-sector collaboration at the local level to break down municipal agency “silos.” This pilot could create integrated teams that represent multiple agencies and service systems to comprehensively address the needs of individual clients and establish new mechanisms for sharing and tracking data across multiple systems that serve disconnected youth in accordance with Federal, State, and local laws. Systems change can include strong partnerships with local philanthropic organizations and non-profit service providers.

• A State, local, or tribal government could create a more integrated and effective job-driven training and service-delivery system that enhances key elements of programs, such as employer engagement, leveraging of public and private resources, data-informed decision making, work-based training opportunities, career pathways, outcomes measurement and program improvement, and the elimination of barriers to employment to ensure that disconnected youth are equipped with the skills that employers need and are connected to employers with good job opportunities. A job-driven training program that uses the flexibilities offered by P3 might combine Workforce Investment Act youth formula program funding for job training and adult education funds for literacy and numeracy training (and, if Congress continues P3 authority in FY 2015, Workforce Innovation and Opportunity Act youth formula program and adult education funding), and other program funds to eliminate employment barriers.

P3 is one of multiple Federal approaches to advance innovation and program delivery to address critical social challenges through community-driven, evidence-based strategies. Complementary approaches, which are laid out in the P3 Consultation Paper, include:

• Promise Zones, which ensure that Federal programs and resources are focused intensely on hard-hit communities;

• Job-Driven Training, which drives improvements in workforce development and job training programs, emphasizing effective approaches that lead to education and credentials needed for in-demand jobs, and providing workers with pathways to good careers and incomes;

• Federal innovation funds—including the Social Innovation Fund, the Workforce Innovation Fund, and the education-focused Investing in Innovation Fund—which support projects that use and build evidence about how to effectively improve skills of at-risk youth that will enable them to succeed in the workforce; and

• Pay for Success initiatives launched by the Department of Justice, DOL, and CNCS, which are fostering outcome-focused partnerships among Federal and State governments, local communities, private-sector investors, service providers, and research organizations to implement cost-effective services that improve outcomes for disconnected youth while generating savings for taxpayers.

Key Features of Successful P3 Proposals

P3 will support a youth-centric approach to service pathways by enabling pilot sites to define the key outcomes that youth in the target population should achieve and to coordinate services so they can achieve those outcomes. Pilots will: (1) Identify the pilot's target population through a needs assessment; (2) use data and evaluations to determine the most effective strategies for serving the target population; (3) propose appropriate funding streams to blend in order to support the strategies; (4) identify the flexibility, both Federal and non-Federal, they need in order to implement the strategies; and finally (5) enter into a performance agreement with a lead Federal agency (designated by the Office of Management and Budget (OMB)) and pilot partners (including any and all State, local, and tribal entities that would be involved in implementation of the pilot) that specifies pilot goals, outcome measures and interim indicators, accountability and oversight mechanisms, and responsibilities of the entities involved.

(1) Identify the pilot's target population through a needs assessment.

Federal consultation with stakeholders has underscored that unclear, varied, or conflicting eligibility criteria for programs that serve youth have posed a barrier to providing comprehensive, effective services for disconnected youth. The broad statutory definition of “disconnected youth” provided in section 526(a)(2) of the Act, combined with the Agencies' expanded authority to allow pilots to blend funds and obtain other waivers of program requirements, is meant to address this barrier by providing applicants with flexibility to define a specific sub-population of disconnected youth that the pilot will serve. This target population must be identified through a data-driven needs assessment, which is discussed further in the Application Requirements section of this notice.

(2) Use data and evaluations to determine the most effective strategies for serving the target population.

The Agencies are seeking to ensure that pilots create a foundation for broader change and continuous improvement in serving disconnected youth. P3 will therefore support pilots that include, to the greatest extent possible, evidence-based and evidence-informed ⁹ interventions and practices.

⁹ Evidence-based interventions are approaches to prevention or treatment that are validated by documented scientific evidence from experimental, quasi-experimental or correlational studies and that show positive effects on the primary targeted outcomes (for experimental and quasi-experimental studies) or favorable associations (for correlational studies). The best evidence to support an applicant's proposed reform(s) and target population will be based on one or more studies using a randomized controlled trial. The next best evidence will be studies using a quasi-experimental (matched comparison) group. Definitions for these types of studies can be found in 34 CFR 77.1(c). Correlational analysis may also be used as evidence to support an applicant's proposed reforms. Interventions and practices are considered evidence-informed if they bring together the best available research, professional expertise, and input from youth and families to identify and deliver services that have promise to achieve positive outcomes for youth, families, and communities. Applicants proposing reforms on which there are not yet evaluations (such as innovations that have not been formally tested or tested only on a small scale) must document how evidence or practice knowledge informed the proposed pilot design.

In many cases, broader change and continuous improvement rely on both specific service-delivery models and also larger systems, such as policy and administrative frameworks. The Agencies are interested in pilots that draw on the best available evidence about how to improve outcomes for disconnected youth, both generally as well as for applicants' specific target populations, through both service delivery and systems change.

(3) Propose appropriate funding streams to blend in order to support the strategies.

P3 allows States, localities, and tribes to blend certain FY 2014 discretionary funds from the Agencies in order to implement outcome-focused strategies for serving disconnected youth. When funds are blended, individual funding streams, or portions of the funding streams, are merged under a single set of reporting and other requirements, losing their award-specific identity. The unified requirements for blended funds may differ from the various requirements that are associated with each of the original, individual funding streams, but must be consistent with the purposes of the programs under which the funds were appropriated. In addition, when activities are supported by blended funding streams, the associated costs do not need to be allocated or tracked back to the original, separate programs.

Programs from which funds may be blended in pilots are limited to those that target disconnected youth, or that are designed to prevent youth from disconnecting from school or work by providing education, training, employment, and other related social services. More information about programs that applicants may want to consider in their proposals is provided in Appendix B.

Where funding streams from certain Federal programs are not eligible or suitable for blending under P3, pilots may also consider how to braid ¹⁰ them, or align them in other ways that promote more effective and efficient outcomes while maintaining the separate identity of each funding stream. Pilots may involve both blended and braided funds.

¹⁰ Braiding funding is a funding and resource allocation strategy in which entities use existing funding streams to support unified initiatives in as flexible and integrated a manner as possible while still tracking and maintaining separate accountability for each funding stream. One or more entities may coordinate several funding sources, but each individual funding stream maintains its award-specific identity.

In general, the pilots are intended to facilitate flexible use of existing funding streams that were made available under the Act. However, in order to provide incentives to participate in P3 and facilitate the initial implementation of performance agreements that will likely require additional coordination and collaboration among a range of State, local, and tribal agencies, the Agencies are awarding FY 2014 start-up funding in this competition. These start-up grants will be in the range of $400,000-$700,000 per grantee.

(4) Identify the flexibilities, both Federal and non-Federal, pilots need in order to implement the strategies.

P3 authority enables heads of the Agencies to approve significant flexibilities, including both the authority to permit blending of funds and the authority to grant waivers of program requirements associated with these funds. In addition to any existing waiver authority that the Agencies have, they also may waive any statutory, regulatory, or administrative requirements that they are otherwise not authorized to waive, as long as the waiver is in keeping with important safeguards (see sections 526(d) and (f) of the Act). Specifically, the waivers must be consistent with the statutory purposes of the relevant Federal programs necessary to achieve the pilot's outcomes, and no broader in scope than necessary to achieve those outcomes. Requirements related to nondiscrimination, wage and labor standards, and the allocation of funds to State and sub-State levels cannot be waived. Agency heads also must determine that the Agency's participation and the use of proposed program funds: (1) Will not result in denying or restricting individual eligibility for services funded by those programs; and (2) will not adversely affect vulnerable populations that are the recipients of those services.

The flexibility, including waivers, permitted under the Act will allow pilot sites to tailor requirements, such as the allowable activities, eligibility criteria and reporting requirements for Federal funds, so that they support the goals and objectives of the pilot and maximize its capacity to improve outcomes for youth.

Successful applicants will be responsible for identifying and securing flexibilities that they need at the State, local, or tribal level in order to implement their pilots.

(5) Enter into a performance agreement with a lead Federal agency (designated by OMB) and pilot partners.

The Act requires that each selected pilot be governed by a performance agreement between a lead Federal agency and the respective representatives of all of the State, local, or tribal governments participating in the agreement (see program requirement (d)). Performance agreements will identify, among other things, the Federal funds and programs involved in the pilot, the population to be served and the outcome(s) to be achieved by the pilot, and the cost-effective Federal oversight procedures that will be used for the purpose of maintaining the necessary level of accountability for funds. OMB has designated ED as the lead agency for purposes of administering P3 start-up grants. OMB may also designate an additional lead Federal agency for each pilot on the basis of the programs included and/or the outcomes sought in the pilot.

Priorities: The Agencies are establishing these priorities for the FY 2014 grant competition and any subsequent year for which P3 awards are made from the list of unfunded applicants from this competition. We are establishing absolute priorities 1 through 3 and competitive preference priorities 1 and 2 in accordance with section 437(d)(1) of the General Education Provisions Act (GEPA), 20 U.S.C. 1232(d)(1). Competitive preference priority 3 is from the notice of final priority—Promise Zones, published in the Federal Register on March 27, 2014 (79 FR 17035).

Absolute Priorities: For FY 2014 and any subsequent year for which we make awards from the list of unfunded applicants from this competition, these priorities are absolute priorities. Under 34 CFR 75.105(c)(3) we consider only applications that meet Absolute Priority 1, 2, or 3.

Note: Applicants must indicate in their application whether they are applying under absolute priority 1, absolute priority 2, or absolute priority 3. An applicant that applies under absolute priority 2, but is not eligible for funding under absolute priority 2, or applies under absolute priority 3, but is not eligible for funding under absolute priority 3, may be considered for funding under absolute priority 1.

Because a diverse group of communities could benefit from P3, the Secretary establishes an absolute priority for applications that propose to serve disconnected youth in one or more rural communities ¹¹ only, and an absolute priority for applications that propose to serve disconnected youth in one or more Indian tribes, and an absolute priority for applications that propose to serve disconnected youth in other communities. P3 is intended, through a demonstration, to identify effective strategies for serving disconnected youth. The Agencies are aware such strategies may differ across environments, and wish to test the authority in a variety of settings. Stakeholder input emphasized that tribal and rural communities in particular can face unique challenges in effectively serving disconnected youth.

¹¹ A rural community is a community that is served only by one or more local educational agencies (LEAs) that are currently eligible under the Small, Rural School Achievement (SRSA) program or the Rural and Low-Income School (RLIS) program authorized under Title VI, Part B of the Elementary and Secondary Education Act of 1965 (ESEA), as amended, or includes only schools designated by the National Center for Education Statistics with a locale code of 42 or 43. Applicants may determine whether a particular LEA is eligible for the SRSA or RLIS programs by referring to information on the following Department Web site: http://www2.ed.gov/programs/reapsrsa/eligible14/index.html. The first tab in the spreadsheets available at this site lists LEAs that are eligible for SRSA; the second tab lists LEAs that are eligible for RLIS. Applicants may determine school locale codes by referring to the following Department Web site: http://nces.ed.gov/ccd/schoolsearch/. Involvement in a pilot by an LEA or school is not a requirement to participate in P3.

These priorities are:

Absolute Priority 1—Improving Outcomes for Disconnected Youth.

Under this priority, we provide funding to an applicant that proposes a pilot designed to improve outcomes for disconnected youth.

Absolute Priority 2—Improving Outcomes for Disconnected Youth in Rural Communities.

Under this priority, we provide funding to an applicant that (1) meets absolute priority 1; and (2) proposes to serve disconnected youth in one or more rural communities only.

Note: To assist us in verifying whether an applicant qualifies for absolute priority 2, an applicant that applies under absolute priority 2 must include the following information in its application: (1) A list of the communities it proposes to serve; and (2) a list and the National Center for Education Statistics (NCES) identification codes of (a) the LEA or LEAs that serve each of the communities it proposes to serve if the applicant qualifies for this priority through the criterion using the Small, Rural School Achievement program or the Rural and Low-Income School program or (b) the school or schools that serve each of the communities it proposes to serve if the applicant qualifies for this priority through the criterion using school-level NCES locale codes.

Absolute Priority 3—Improving Outcomes for Disconnected Youth in Tribal Communities.

Under this priority, we provide funding to an applicant that (1) meets absolute priority 1; (2) will serve disconnected youth in one or more Indian tribes; and (3) represents a partnership that includes one or more Indian tribes.

Competitive Preference Priorities: For FY 2014 and any subsequent year for which we make awards from the list of unfunded applicants from this competition, these priorities are competitive preference priorities. Under 34 CFR 75.105(c)(2)(i), up to an additional 5 points will be awarded to an application based on how well the application meets competitive preference priority 1, up to an additional 10 points to an application based on how well the application meets competitive preference priority 2, and an additional 2 points to an application that meets competitive preference priority 3.

Background for Competitive Preference Priorities 1 and 2:

Under competitive preference priorities 1 and 2, we will award points to applicants based on their plans to conduct independent impact evaluations of at least one service-delivery or operational component of their pilots, in addition to participating in the national P3 evaluation, which is discussed in the Program Requirements section of this notice. In proposing these site-specific impact evaluations, applicants should use the strongest possible designs and research methods and use high-quality administrative data in order to maximize confidence in the evaluation findings and minimize the costs of conducting these evaluations. Federal start-up funds and blended funds may be used to finance these evaluations, which will augment the evidence that is gained through any impact studies that are included in the national P3 evaluation.

Competitive Preference Priority 1—Quasi-Experimental Site-Specific Evaluations (Up to 5 points).

Under this priority, competitive preference will be given to applicants that propose to conduct an independent evaluation of the impacts on disconnected youth of their overall program or specific components of their program using a quasi-experimental ¹² design. Proposals will be scored based on the clarity and feasibility of the proposed evaluation design and the applicants' demonstrated expertise in planning and conducting a quasi-experimental evaluation study.

¹² “Quasi-experimental design” means a study using a design that attempts to approximate an experimental design by identifying a comparison group that is similar to the treatment group in important respects. These studies, depending on design and implementation, can meet ED's What Works Clearinghouse Evidence Standards with reservations. (34 CFR 77.1(c); see also the What Works Clearinghouse Procedures and Standards Handbook, Version 3.0, March 2014, available at: http://ies.ed.gov/ncee/wwc/pdf/reference_resources/wwc_procedures_v3_0_standards_handbook.pdf.)

Competitive Preference Priority 2—Experimental Site-Specific Evaluations (Up to 10 points).

Under this priority, competitive preference will be given to applicants that propose to conduct an independent evaluation of the impacts of their overall program or components of their program on disconnected youth using a randomized controlled trial.¹³ Applicants' proposals will be scored based on the clarity and feasibility of the proposed evaluation design and the applicants' demonstrated expertise in planning and conducting experimental evaluation studies.

¹³ “Randomized controlled trial” means a study that employs random assignment of, to give education-based examples, students, teachers, classrooms, schools, or districts to receive the intervention being evaluated (the treatment group) or not to receive the intervention (the control group). The estimated effectiveness of the intervention is the difference between the average outcome for the treatment group and for the control group. These studies, depending on design and implementation, can meet ED's What Works Clearinghouse Evidence Standards without reservations. (34 CFR 77.1(c); see also the What Works Clearinghouse Procedures and Standards Handbook, Version 3.0, March 2014, available at: http://ies.ed.gov/ncee/wwc/pdf/reference_resources/wwc_procedures_v3_0_standards_handbook.pdf.)

Please see Appendix A for the requirements for evaluation proposals that are related to competitive preference priorities 1 and 2.

Competitive Preference Priority 3—Promise Zones (0 or 2 points).

Background:

Under this priority, competitive preference will be given to applicants that propose projects that are designed to serve and coordinate with a federally designated Promise Zone. Promise Zone designees have committed to establishing comprehensive, coordinated approaches in order to ensure that America's most vulnerable children succeed from cradle to career. In January 2014, President Obama announced the first five Promise Zones, located in: The Choctaw Nation of Oklahoma, Los Angeles, Philadelphia, San Antonio, and Kentucky Highlands. This designation is designed to assist local leaders in creating jobs, increasing economic activity, improving educational opportunities, leveraging private investment, and reducing violent crime in high-poverty urban, rural, and tribal communities. By partnering with Promise Zone designees, the Federal government will help communities access the resources and expertise they need—including the resources from various neighborhood revitalization initiatives—to ensure that Federal programs and resources support the efforts to transform these communities.

Priority:

This priority is for projects that are designed to serve and coordinate with a federally designated Promise Zone.

Note: Applicants should submit a letter of support from the lead organization of a designated Promise Zone describing the contribution of the applicant's proposed activities. A list of designated Promise Zones and lead organizations can be found at http://hud.gov/promisezones.

Application Requirements:

The following requirements apply to all applications submitted under this competition. Any application that does not include the required documents or information will not be considered.

(a) Statement of Need for a Defined Target Population.

(1) The applicant must define the target population to be served, based on data and analysis demonstrating the need for services within the relevant geographic area. The target population must be consistent with the population identified by section 526(a)(2) of the Act.

(2) The applicant's statement of need must include data demonstrating how the target population lags behind other groups in achieving the outcomes that the pilot will seek to attain, including an analysis of disparities in circumstances and outcomes among the target population and these other groups. These data must be based on a needs assessment that was conducted or updated within the past three years using representative data on youth from the jurisdiction(s) proposing the pilot. Applicants do not need to include a copy of the needs assessment with the application, but must identify when the assessment was conducted.

(b) Flexibility, including waivers.

(1) Federal requests for flexibility, including waivers. The applicant must describe the Federal flexibility that is needed to implement the proposed pilot and to improve outcomes for the target population, focusing on changes to major program requirements that would otherwise inhibit implementation. Flexibility involves both the ability to blend funds, thereby aligning certain administrative activities, and other waivers of program requirements. Examples of potential requests for flexibility include, but are not limited to: changes to eligibility requirements, allowable uses of funds, or performance reporting. Applicants must cite the specific Federal statutory, regulatory, or other requirements for which they are requesting flexibility. (More information on flexibility, including waivers, is provided in the FAQ section of the application package.)

Note: The waiver request process for P3, which is part of the application process, differs from standard agency processes. Applicants do not need to submit separate waiver requests or information to the respective agencies outside of the P3 application process.

(2) Non-Federal flexibility, including waivers. In addition to Federal flexibility, successful implementation of proposals may also depend on flexibility related to requirements imposed at the State, local, or tribal level. The Agencies do not have the authority to waive non-Federal requirements. Applicants therefore must identify the specific State, local, or tribal policies, regulations, or other requirements that may impede the pilot's ability to achieve its goals so that, if the proposed pilot and flexibility, including waivers, are approved, requirements across non-Federal levels of government are aligned to support effective implementation. Applicants must provide written assurance that:

(A) The State, local, or tribal government(s) with authority to grant any needed non-Federal flexibility, including waivers, will approve such flexibility within 60 days of an applicant's designation as a pilot finalist; or

(B) Non-Federal flexibility, including waivers, is not needed in order to successfully implement the pilots.

(c) Project Design.

The applicant must present a project design for how it will improve specific outcomes for the target population. The design must indicate the proposed length of the pilot, which may not extend beyond September 30, 2018, and whether and how the applicant intends to incorporate future funding, including FY 2015 funding, into the multi-year project if Congress extends P3 authority.¹⁴ Applicants may propose to expand the number of Federal programs supporting pilot activities using FY 2015 or other future funding beyond the Federal programs proposed using FY 2014 funds. The applicant's design must include the following elements.

¹⁴ Authority for pilots to blend funds for future years is subject to Congressional action as well as agency approval. However, because the Agencies will evaluate applications, in part, based on their multi-year plans, an applicant should provide as much information as possible about its future plans. Once pilots are selected, the Agencies may consider changes, including changes in scope and objectives, to pilot designs in subsequent years as a result of new funding streams. The reason for considering those changes is that, because P3 is intended to test a new approach to improving outcomes for disconnected youth, the pilots that demonstrate successful performance and effective governance processes may be able to build on these gains by using additional funding streams and/or including additional partners in future years.

(1) An explanation of how the strategies and activities that the pilot will employ are based on (or informed by) available research evidence.¹⁵

¹⁵ The best evidence for the expected effects of proposed interventions and reforms will be based on one or more studies using a randomized controlled trial. The next best evidence will be studies using a quasi-experimental (matched comparison group). Some studies that use these designs have been reviewed and are available in Federal registries of evidence-based interventions, such as the What Works Clearinghouse (WWC) (http://ies.ed.gov/ncee/wwc/) and the Clearinghouse on Labor Evaluation and Research (CLEAR)(http://clear.dol.gov/). Correlational analysis may also be used as evidence to support an applicant's proposed reform. More information on Federal registries is provided in the FAQ section of the application package. Applicants are encouraged to identify (and cite) studies that support their proposed pilot strategies and activities (whether from Federal registries or other sources) to explain the strengths and limitations of the existing evidence and to describe how the proposed strategies and activities will take into account those strengths and limitations in the existing evidence. Applicants proposing reforms on which there is not yet research evidence (such as innovations that have not been formally tested or tested only on a small scale) must document how evidence or practice knowledge informed the proposed pilot design.

Note: Applicants must cite the studies on service interventions and system reform that informed their pilot design and explain the relevance of the cited evidence to the proposed project.

(2) A graphic depiction (not longer than one page) of the pilot's logic model ¹⁶ that illustrates the underlying theory of how the pilot's strategy will produce intended outcomes. More information on logic models is provided in the FAQ section of the application package.

¹⁶ “Logic model” (also referred to as theory of action) means a well-specified conceptual framework that identifies key components of the proposed process, product, strategy, or practice (i.e., the active ”ingredients” that are hypothesized to be critical to achieving the relevant outcomes) and describes the relationships among the key components and outcomes, theoretically and operationally. (34 CFR 77.1(c).)

(3) A description of the Federal program funds the applicant will blend in the pilot to carry out the activities described. In order to qualify for a pilot, the proposal must include at least two Federal programs: (a) That have policy goals related to P3; and (b) at least one of which is administered (in whole or in part) by a State, local, or tribal government (see Appendix B for examples of specific programs that applicants may want to consider). If applicable, the applicant should also describe any Federal funds that will support the proposed pilot or complementary activities by being braided rather than blended, such as funds that are not eligible under the Act to be blended, but may still support relevant activities under the pilot.

Note: Agencies will review the blending of FY 2014 competitive grants in pilots on a case-by-case basis in order to consider how the scope, objectives, and target populations of the existing award align with the proposed pilot. As discussed under the selection criteria, applicants will be scored, in part, based on the extent to which they demonstrate that alignment.

(d) Work Plan and Project Management. The applicant must provide a detailed work plan that describes how the proposed work will be accomplished. The applicant must describe the professional qualifications that will be required of the project manager and other key personnel to ensure proper management of pilot activities.

(e) Partnership Capacity and Management. The applicant must—

(1) Identify the proposed partners, including any and all State, local, and tribal entities and non-governmental organizations that would be involved in implementation of the pilot. Partnerships that cross programs and funding sources but are under the jurisdiction of a single agency or entity must identify the different sub-organizational units involved.

(2) Provide assurance of the proposed partners' commitment, such as a memorandum of understanding (MOU) or letter of commitment. The assurance of commitment must be signed by the executive leader or other accountable senior representative of each relevant organization or agency and include, at a minimum: (a) A description of each proposed partner's commitment of financial or in-kind resources (if any); (b) how each proposed partner's existing vision and current and proposed activities align with those of the proposed pilot; and (c) how each proposed partner will be held accountable under the proposed governance structure.

(3) Describe how the applicant and proposed partners will use and coordinate resources in order to improve outcomes for disconnected youth. This description may include whether proposed efforts are aligned with, or whether the applicants' and proposed partners' jurisdiction is participating in, complementary Administration initiatives or efforts, such as Promise Zones and Pay for Success, or efforts that are focused on populations such as foster youth, young men of color, or homeless youth. For projects that include a focus on placing youth in work-based training and employment opportunities, applicants should address engagement with business and industry in identifying employment opportunities and skills, defining competencies, designing programs, and developing curricula, when applicable.

Note: While applicants must describe how the proposed project will use and coordinate resources, participation in complementary initiatives or efforts of the Administration is not a requirement for participation in P3.

(f) Data and Evaluation Capacity.

(1) Applicants must describe the proposed partnership's data and evaluation capacity, including its ability to collect, analyze, and use data for decision-making, learning, continuous improvement, and accountability. Specifically, the applicant must describe the extent to which the proposed partners have done, and will continue to do, the following:

(A) Manage and maintain computerized administrative data systems to track program participants, services, and outcomes;

(B) Execute data-sharing agreements with programs or organizations to share information with program partners and evaluators for case management, performance management, and evaluation purposes, in accordance with Federal, State, and other privacy laws and requirements;

(C) Link or make progress toward linking programmatic data to administrative data from relevant government agencies;

(D) Collect, store, and make data available to program partners, researchers, and evaluators in accordance with Federal, State, and other privacy laws and regulations;

(E) Use data to determine cost-effective strategies for improving outcomes; and

(F) Regularly analyze program data to assess progress, identify operational strengths and weaknesses, and determine how implementation could be strengthened to improve outcomes.

(2) The applicant must propose outcome measures and interim indicators to gauge pilot performance. At least one outcome measure must be in the domain of education, and at least one outcome measure must be in the domain of employment. Applicants may specify additional employment and education outcome measures, as well as outcome measures in other domains of well-being, such as criminal justice, physical and mental health, and housing. Regardless of the outcome domain, applicants must identify at least one interim indicator for each proposed outcome measure. Examples of education- and employment-related outcome measures and interim indicators include:

• For High School Diploma Attainment: High school enrollment, attendance, and grade promotion;

• For Community College Completion: Class attendance and credit accumulation; and

• For Sustained Employment in Career Field: Job placement or acquisition, employment retention, and earnings.

The specific outcome measures and interim indicators the applicant uses should be grounded in its logic model, and informed by applicable program results or research, as appropriate. More information on outcomes and interim indicators is available in the FAQs included in the application package.

(3) For each proposed outcome measure and interim indicator, the applicant must describe:

(A) The methodology and progress milestones (such as monthly, quarterly, annually) that will be used to assess progress;

(B) The sources of data that will be used, and whether the data are subject to audit or other means of validation for accuracy; and

(C) The frequency with which data will be recorded by the pilot and the frequency with which the applicant proposes to report on outcome measures, interim indicators, and project progress milestones to the Federal government.

Note: Lead Federal agencies will work with selected pilots to finalize the reporting requirements and to determine the frequency of reporting as part of the performance partnership agreement. The lead Federal agency for each pilot reserves the right to negotiate the selected interim indicators, outcome measures, and project progress milestones, and to add relevant performance measures as part of the performance agreement process.

(g) Budget and Budget Narrative.

(1) The applicant must identify specific funding levels for the funding sources to be used in the pilot, specifically—

(A) For each Federal program, the amount of funds to be blended and the percentage of total program funding received by the applicant that this amount represents;

(B) The total amount of funds from all Federal programs that would be blended under the pilot;

(C) The source and amount of any non-Federal funds and programs, including funds from State, local, tribal, philanthropic, and other sources, that will be used for the pilot, as well as a description of how those funds and programs will complement Federal funds in the implementation of the proposed strategy and activities; and

(D) The total amount of all funds, Federal and non-Federal, that will be used to support activities related to the pilot.

(2) The applicant must indicate whether in-kind contributions or other braided Federal funds will be used to support the pilot and, if so, identify these contributions.

(3) The applicant must provide a detailed budget and a budget narrative that describe how the pilot will use the requested start-up grant funds, as well as the FY 2014 and FY 2015 Federal program funds that the applicant proposes to blend. The budget must cover all years during which FY 2014 and FY 2015 Federal funds would be used to support the pilot and must include at least the first full year of the pilot. The applicant should request a specific start-up grant amount that is between $400,000 and $700,000 and describe how the pilot will use these start-up funds to support effective implementation, such as planning, governance, technical assistance, site-specific evaluation, capacity-building, and coordination activities. Examples of other uses include supporting the measurement of pilot performance and results, such as modifications to information systems.

Program Requirements:

(a) In addition to any site-specific evaluations that pilots may undertake, the Agencies are initiating a national P3 evaluation. Each P3 pilot must participate fully in any federally sponsored P3 evaluation activity, including the national evaluation of P3, which will consist of the analysis of participant characteristics and outcomes, an implementation analysis at all sites, and rigorous impact evaluations of promising interventions in selected sites. The applicant must acknowledge in writing its understanding of these requirements by submitting the form provided in Appendix A, “Evaluation Commitment Form,” as an attachment to its application.

(b) All P3 pilots must participate in a community of practice ¹⁷ that includes an annual in-person meeting of pilot sites (paid with grant funding that must be reflected in the pilot budget submitted; see the FAQ in the application package for more information) and virtual peer-to-peer learning activities. This commitment involves each pilot site working with the lead Federal agency on a plan for supporting its technical assistance needs, which can include learning activities supported by foundations or other non-Federal organizations as well as activities financed with Federal funds for the pilot.

¹⁷ “Community of practice” means a group of pilots that agrees to interact regularly to solve a persistent problem or improve practice in an area that is important to them and the success of their projects. Establishment of communities of practice under P3 will enable pilots to meet, discuss, and collaborate with each other regarding grantee projects.

(c) P3 pilots must secure necessary consent from parents, guardians, students, or youth program participants to access data for their pilots and any evaluations, in accordance with applicable Federal, State, local, and tribal laws. Applicants must explain how they propose to ensure compliance with Federal, State, local, and tribal privacy laws and regulations as pilot partners share data to support effective coordination of services and link data to track outcome measures and interim indicators at the individual level to perform, where applicable, a low-cost, high-quality evaluation.

(d) Each P3 pilot, along with other non-Federal government entities involved in the partnership, must enter into a performance agreement that will include, at a minimum, the following (as required by section 526(c)(2) of the Act):

(1) The length of the agreement;

(2) The Federal programs and federally funded services that are involved in the pilot;

(3) The Federal discretionary funds that are being used in the pilot;

(4) The non‐Federal funds that are involved in the pilot, by source (which may include private funds as well as governmental funds) and by amount;

(5) The State, local, or tribal programs that are involved in the pilot and their respective roles;

(6) The populations to be served by the pilot;

(7) The cost‐effective Federal oversight procedures that will be used for the purpose of maintaining the necessary level of accountability for the use of the Federal discretionary funds;

(8) The cost‐effective State, local, or tribal oversight procedures that will be used for the purpose of maintaining the necessary level of accountability for the use of the Federal discretionary funds;

(9) The outcome (or outcomes) that the pilot is designed to achieve;

(10) The appropriate, reliable, and objective outcome‐measurement methodology that will be used to determine whether the pilot is achieving, and has achieved, specified outcomes;

(11) The statutory, regulatory, or administrative requirements related to Federal mandatory programs that are barriers to achieving improved outcomes of the pilot; ¹⁸ and

¹⁸ The Agencies cannot grant waivers of requirements under mandatory programs or programs funded outside of Division H of the Act, except where the agency has existing administrative authority to provide waivers. The Act requires that P3 performance agreements list barriers in mandatory programs even though P3 authority does not authorize these programs to be blended for pilot purposes. While these programs' funds are not eligible for blending funds under P3, applicants are encouraged to identify strategies for better coordinating the delivery of services with these programs to the extent possible. Medicaid, TANF and certain Foster Care programs authorized by the Social Security Act are examples of mandatory programs.

(12) Criteria for determining when a pilot is not achieving the specified outcomes that it is designed to achieve and subsequent steps, including:

(i) The consequences that will result; and

(ii) The corrective actions that will be taken in order to increase the likelihood that the pilot will achieve such specified outcomes.

Waiver of Proposed Rulemaking: Under the Administrative Procedure Act (5 U.S.C. 553), the Department of Education generally offers interested parties the opportunity to comment on proposed definitions, requirements, and selection criteria. However, Section 437(d)(1) of the General Education Provisions Act (GEPA) (20 U.S.C. 1232(d)(1)) allows the Secretary to exempt the first grant competition under a new or substantially revised program authority from rulemaking requirements and regulations.

This is the first P3 grant competition and, therefore, it qualifies for this exemption. In order to ensure timely awards, the Secretary has decided to forgo public comment on the priorities, definitions, requirements, and selection criteria under section 437(d)(1) of GEPA. These priorities, definitions, requirements, and selection criteria will apply to the FY 2014 grant competition and any subsequent year for which we make awards from the list of unfunded applicants from this competition.

Program Authority: Section 526 of Division H of the Consolidated Appropriations Act, 2014 (Public Law 113-76).

Applicable Regulations:

This application notice (also referred to as a notice inviting applications (NIA)) is being published before the Department adopts the Uniform Administrative Requirements, Cost Principles, and Audit Requirements in 2 CFR part 200. We expect to publish interim final regulations that would adopt those requirements before December 26, 2014, and make those regulations effective on that date. Because grants awarded under this NIA will likely be made after the Department adopts the requirements in 2 CFR part 200, we list as applicable regulations both those that are currently effective and those that will be effective at the time the Department makes grants.

The current regulations follow: (a) The Education Department General Administrative Regulations (EDGAR) in 34 CFR parts 75, 77, 79, 80, 81, 82, 84, 86, 97, 98, and 99. (b) The OMB Guidelines to Agencies on Governmentwide Debarment and Suspension (Nonprocurement) in 2 CFR part 180, as adopted and amended as regulations of the Department in 2 CFR part 3485.

At the time we award grants under this NIA, the following regulations will apply: (a) EDGAR in 34 CFR parts 75, 77, 79, 81, 82, 84, 86, 97, 98, and 99. (b) The OMB Guidelines to Agencies on Governmentwide Debarment and Suspension (Nonprocurement) in 2 CFR part 180, as adopted and amended as regulations of the Department in 2 CFR part 3485, and the Uniform Administrative Requirements, Cost Principles, and Audit Requirements for Federal Awards in 2 CFR part 200, as adopted and amended in 2 CFR part 3474.

Regardless of the timing of publication, the following also applies to this NIA: The notice of final priority—Promise Zones, published in the Federal Register on March 27, 2014 (79 FR 17035).

Note: The regulations in 34 CFR part 79 apply to all applicants except federally recognized Indian tribes.

II. Award Information

Type of Award: Cooperative agreement.

Estimated Available Funds: Up to $7,100,000.

Contingent upon the availability of funds and the quality of applications, we may make additional awards in subsequent years from the list of unfunded applicants from this competition.

Estimated Range of Awards: $400,000 to $700,000.

Estimated Average Size of Award: $550,000.

Estimated Number of Awards: 10.

Note: The Agencies are not bound by any estimates in this notice.

Project Period: Not to extend beyond September 30, 2018.

III. Eligibility Information

1. Eligible applicants: An application must be submitted by a lead applicant on behalf of a partnership that involves all public and private organizations (including non-profit, business, industry, and labor organizations) that will participate in pilot implementation and governance. The lead applicant must be a State, local, or tribal government entity, represented by a Chief Executive, such as a governor, mayor, or other elected leader, or the head of a State, local, or tribal agency. In addition to formally submitting the application, the official representing the lead applicant will serve as the primary official who is responsible for the pilot project if the proposal is selected as a pilot. A private, non-profit organization is not an eligible applicant for a pilot; however, it may have a significant role in the design, governance, and implementation of a pilot and may, if appropriate, be a signatory to the performance agreement. For more information on the potential roles and participation of non-profit organizations in a pilot, see the FAQs in the application package.

For each application selected as a pilot, the respective representatives of all participating State, local, and tribal governments must be parties to the performance agreement governing the pilot. For example, when a P3 pilot proposed at the local or tribal level is financed with funds administered by a State, the administering State agency must be a party to the agreement and must agree to any waivers or other proposals that are needed to implement the pilot and also fall under that State agency's jurisdiction. If a State or group of States proposes a pilot that would be implemented only in certain communities and would involve participation by local government jurisdictions, these jurisdictions will need to be party to the agreement and agree to implement the pilot as proposed by the State(s).

2. Cost-Sharing or Matching: This program does not require cost-sharing or matching.

IV. Application and Submission Information

1. Address to Request Application Package: Braden Goetz, U.S. Department of Education, 400 Maryland Avenue SW., Room 11141, PCP, Washington, DC 20202. Telephone: (202) 245-7405.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2. a. Content and Form of Application Submission: Requirements concerning the content of an application, together with the forms you must submit, are in the application package for this competition.

Notice of Intent to Apply: January 8, 2015.

Note: Submission of a notice of intent to apply is optional.

Page Limit: The application narrative is where you, the applicant, address the selection criteria that reviewers use to evaluate your application. We recommend that you limit the application narrative to no more than 40 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The recommended page limit does not apply to the application cover sheet; the detailed annual budget; the assurances and certifications; or the abstract, the absolute and competitive priorities, the resumes, the bibliography, or the letters of commitment and MOUs. However, the recommended page limit does apply to all of the application narrative section.

b. Submission of Proprietary Information:

Given the types of projects that may be proposed in applications for Performance Partnership Pilots, your application may include business information that you consider proprietary. The Department's regulations define “business information” in 34 CFR 5.11.

Because we plan to make successful applications available to the public, and may make all applications available, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information, please see 34 CFR 5.11(c).

3. Submission Dates and Times:

Applications Available: November 24, 2014.

Deadline for Notice of Intent to Apply: January 8, 2015.

Note: Submission of a notice of intent to apply is optional.

Deadline for Transmittal of Applications: March 4, 2015.

Applications for grants under this competition must be submitted electronically using the Grants.gov Apply site (Grants.gov). For information (including dates and times) about how to submit your application electronically, or in paper format by mail or hand delivery if you qualify for an exception to the electronic submission requirement, please refer to section IV. 7.

Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: May 4, 2015.

4. Intergovernmental Review: This program is subject to Executive Order 12372 and the regulations in 34 CFR part 79.

Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for competition must be submitted electronically unless you qualify for an exception to this requirement in accordance with the instructions in this section.

a. Electronic Submission of Applications.

Applications for grants under the Performance Partnerships Pilots program, CFDA number 84.420A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for P3 at www.Grants.gov. You must search for the downloadable application package for this competition by the CFDA number. Do not include the CFDA number's alpha suffix in your search (e.g., search for 84.420, not 84.420A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Braden Goetz, U.S. Department of Education, 400 Maryland Avenue SW., Room 11141, PCP, Washington, DC 20202. FAX: (202) 245-7838.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: CFDA Number 84.420A, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.420A, 550 12th Street SW., Room 7039, Potomac Center Plaza, Washington, DC 20202-4260.

The Application Control Center accepts hand deliveries daily between 8:00 a.m. and 4:30:00 p.m., Washington, DC time, except Saturdays, Sundays, and Federal holidays. Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria. We are establishing the following selection criteria for the FY 2014 grant competition and any subsequent year for which we make awards from the list of unfunded applicants from this competition. Eligible applicants may receive up to 100 total points based on the extent to which their applications address these selection criteria. The number of points that may be awarded for each criterion is indicated in parentheses next to the criterion. An applicant's final score will include both points awarded based on selection criteria and also any points awarded for the three competitive preference priorities.

A. Need for Project (5 Points)

In determining the need for the proposed project, we will consider the extent to which the applicant used a comprehensive needs assessment completed within the previous three years that draws on representative data on youth in the jurisdiction(s) to be served by the pilot that are disaggregated according to relevant demographic factors to: (1) Show disparities in outcomes among key sub-populations; and (2) identify an appropriate target population of disconnected youth with a high level of need. Examples of relevant demographic factors include race, ethnicity, gender, age, disability status, involvement in systems such as foster care or justice, status as pregnant or parenting, and other key factors selected by the applicant.

B. Need for Requested Flexibility, Including Blending of Funds and Other Waivers (10 Points)

In determining the need for the requested flexibility, including blending of funds and other waivers, we will consider the following factors—

(1) The extent to which the applicant presents evidence that specific Federal barriers are hindering successful achievement of outcomes for the target population of disconnected youth identified by the applicant and cites the relevant statute(s), regulation(s), and/or administrative requirement(s) for which it is seeking flexibility, including waivers (5 points); and

(2) The extent to which the applicant provides a justification of how requested flexibility, including blending funds and other waivers, will reduce barriers, increase efficiency, support implementation of the pilot, and produce significantly better outcomes for the target population(s) (5 points).

C. Project Design (25 Points)

In determining the strength of the project design, we will consider the following factors—

(1) The extent to which the applicant presents a clear and logical plan that is likely to improve outcomes significantly for the target population, by addressing the gaps and the disparities identified through the needs assessment, including the extent to which—

(a) The inputs and activities shown in the logic model are necessary and sufficient to achieve the project's objectives, and

(b) The assumptions of the logic model are identified and a rationale is provided for them. For example, applicants proposing job training or employment strategies should include data on the demand for particular occupations in the relevant geographic areas (10 points);

(2) The extent to which the applicant demonstrates that the pilot will use evidence-based and evidence-informed interventions, in addition to systems change, as documented by citations to the relevant evidence (5 points);

Note: Applicants should cite the studies on service interventions and system reform that informed their pilot design and explain the relevance of the cited evidence to the proposed project in terms of subject matter and evaluation evidence.

(3) The extent to which the pilot will provide intensive, comprehensive, and sustained service pathways and coordinated approaches that are likely to improve outcomes significantly over the short, medium, and long term by helping individuals progress seamlessly from one educational stepping stone to another, across work-based training and education, or through other relevant programmatic milestones to improve outcomes. For example, a pilot might prevent gaps in service that would jeopardize the achievement of outcomes by creating a seamless progression of services that provide continuous support as needed to the target population (5 points); and

(4) For Federal programs that are proposed to provide funding for pilots, the extent to which the applicant explains how the use of funds for the pilot: (a) Will not result in denying or restricting the eligibility of individuals for services that (in whole or in part) are otherwise funded by these programs; and (b) based on the best available information, will not otherwise adversely affect vulnerable populations that are the recipients of those services. If the applicant proposes to include FY 2014 competitive grant funds that have already been awarded, the extent to which the applicant demonstrates that the scope, objectives, and target population(s) of the existing award align with the proposed pilot (see the FAQs included in the application package for more information) (5 points).

D. Work Plan and Project Management (10 Points)

In determining the strength of the work plan and project management, we will consider the extent to which the applicant presents a strong work plan and project management approach that includes—

(1) A detailed timeline and implementation milestones, including—

(a) A statement of when any necessary preparatory work will be completed, which must be within 180 days of being awarded pilot start-up funding;

(b) The expected start date of a project manager, the expected award dates of contracts and other authorized subawards, and expected dates for establishing agreements among the partners;

(c) The start date of the pilot services, such as participant intake and services;

(d) When the partnership will begin to implement pilot services or changes to administrative systems and policy and which partners are responsible for key tasks;

(e) The number of participants expected to be served under the pilot for each period, such as quarterly or annually (for example, number of participants enrolled, and the number achieving specified education, employment, and other outcomes); and

(f) For an applicant that is proposing an evaluation (as described in competitive preference priorities 1 and 2), when it will begin evaluation activities, including execution of a contract with an independent evaluator.

(2) A description of how the proposed budget and budget narrative align with the work plan, identifying how each implementation milestone will be adequately funded as outlined in the proposed budget;

(3) A description of any existing or anticipated barriers to implementation and how they will be overcome; and

(4) A description of the professional qualifications that will be required of the project manager and other key personnel, including a description of how such qualifications are sufficient to ensure proper management of all grant activities, such as timely reporting and the ability to manage a strategic partnership (10 points).

Note: If the program manager or other key personnel are already on staff, the applicant should provide this person's resume or curriculum vitae.

E. Partnership Capacity (15 Points)

In determining the strength and capacity of the proposed pilot partnership, we will consider the following factors—

(1) The extent to which the applicant demonstrates that it has an effective governance structure in which partners that are necessary to successfully implement the pilot are represented and partners have the necessary authority, resources, expertise, and incentives to achieve the pilot's goals, resolve unforeseen issues, and sustain efforts to the extent possible after the project period ends, including by demonstrating the extent to which, and how, participating partners have successfully collaborated to improve outcomes for disconnected youth in the past. The proposed governance structure should reflect a plan for effective cooperation across levels of government, including a description of the State, local, and tribal roles in the partnership, or across entities within the same level of government, to improve outcomes for disconnected youth, such as through coordinated program delivery, easier program navigation for participants, or identification and resolution of State and local policy barriers (10 points);

(2) The extent to which the applicant demonstrates that its proposal was designed with input from all relevant stakeholders, including disconnected youth and other community partners. Where the project design includes job training strategies, the extent of employer input and engagement in the identification of skills and competencies needed by employers, the development of the curriculum, and the offering of work-based learning opportunities, including pre-apprenticeship and registered apprenticeship, will be considered (5 points).

F. Data Capacity (30 Points)

In determining the strength of the applicant's data capacity, we will consider the following factors—

(1) The extent to which the applicant demonstrates the capacity to collect, analyze, and use data for decision-making, learning, continuous improvement, and accountability, and has a strong plan to bridge the gaps in its ability to do so, including the extent to which the applicant has, and will continue to:

(a) Manage and maintain computerized administrative data systems to track program participants, services, and outcomes;

(b) Execute data-sharing agreements with programs or organizations to share information with program partners and evaluators for case management, performance management, and evaluation purposes in accordance with Federal, State, local, and other privacy laws and requirements;

(c) Use data to determine cost-effective strategies for improving outcomes; and

(d) Regularly analyze program data to assess the pilot's progress, identify operational strengths and weaknesses and determine how implementation can be strengthened to improve outcomes (5 points).

(2) The strength of the applicant's plan to manage and link data in ways that comply with all relevant Federal, State, and local privacy laws and regulations to ensure the protection of personally identifiable information (5 points).

(3) The extent to which the applicant shows how the outcomes of the proposed pilot are likely to be a significant improvement compared with what might have occurred in its absence, both during the pilot project period and, for longer-term outcomes, beyond the project period (10 points).

(4) The extent to which proposed outcome measures and interim indicators, as well as their measurement methodologies and progress milestones, are appropriate and sufficient to gauge progress toward pilot objectives (5 points).

(5) The extent to which the data sources for the outcome measures and interim indicators will be accessible and independently audited or validated for accuracy (5 points).

G. Budget and Budget Narrative (5 Points)

In determining the adequacy of the resources that will be committed to support the project, we will consider the extent to which the costs are reasonable in relation to the objectives, design, and potential significance of the project.

2. Review and Selection Process: The Department will screen applications that are submitted in accordance with the requirements in this notice, and will determine which applications are eligible to be read based on whether they have met the eligibility and application requirements established by this notice.

The Department will use reviewers with knowledge and expertise on issues related to improving outcomes for disconnected youth to score the selection criteria. The Department will thoroughly screen all reviewers for conflicts of interest to ensure a fair and competitive review. Reviewers with expertise in evaluation will score competitive preference priorities 1 and 2. The Department will assign 2 points for competitive preference priority 3 if the application includes a letter from the lead organization of a designated Promise Zone describing the contribution of the applicant's proposed activities.

Technical scoring. Reviewers will read, prepare a written evaluation, and assign a technical score to the applications assigned to their panel, using the selection criteria provided in this notice, competitive preference priorities 1 and 2, and the scoring rubric in Appendix D.

The Department will then prepare a rank order of applications based on their technical scores.

Flexibility, including blending of funds and other waivers. Using this rank order, representatives of the Agencies that administer programs under which flexibility in Federal requirements is sought will evaluate whether the flexibility, including blending of funds and other waivers, requested by top-scoring applicants meets the statutory requirements for Performance Partnership Pilots and is otherwise appropriate (as described in Appendix B). For example, if an applicant is seeking flexibility under programs administered by HHS and DOL, its requests for flexibility will be reviewed by HHS and DOL officials. Applicants may be asked to participate in an interview at this point in the process in order to clarify requests for flexibility and other aspects of their proposals.

For applicants that propose to include funds from FY 2014 competitive grants that have already been awarded, the flexibility review will include consideration of whether the scope, objectives, and target populations of the existing competitive grant award(s) are sufficiently and appropriately aligned with the proposed pilot. Any changes in terms and conditions of the existing competitive grant award(s) required for pilot purposes must be justified by the applicant (see FAQ included in the application package). The Agencies will review those requests on a case-by-case basis.

If 25 or fewer applications are received, the technical scoring and reviews of flexibility requests may be conducted concurrently.

Selecting finalists. Agency officials may recommend the selection of up to ten projects as Performance Partnership Pilots. In accordance with 34 CFR 75.217(d) and in consultation with the other Agencies, the Secretary will select finalists after considering the rank ordering, the recommendations of the Agencies that administer the programs for which the applicants are seeking flexibility and other information including an applicant's performance and use of funds and compliance history under a previous award under any Agency program. In selecting pilots, the agencies may consider high-ranking applications meeting absolute priority 2 or absolute priority 3 separately to ensure that there is a diversity of pilots. In addition, as required by the Act, each pilot must meet all statutory criteria.

For each finalist, a lead Federal agency designated by OMB will negotiate a performance agreement. If a performance agreement cannot be finalized for any applicant within 60 days, an alternative applicant may be selected as a finalist instead. The recommended projects will be considered finalists until performance agreements are signed by all parties, and pilot designation and start-up grant funds will be awarded only after execution of each finalist's performance agreement.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under current 34 CFR 74.14 and 80.12 and, when grants are made under this NIA, 2 CFR 3474.10, the Secretary may impose special conditions and, in appropriate circumstances, high-risk conditions on a grant if the applicant or grantee is not financially stable; has a history of unsatisfactory performance; has a financial or other management system that does not meet the standards in 34 CFR parts 74 or 80, as applicable or, when grants are awarded, the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as outlined in the P3 performance agreement. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Performance measures and interim indicators, along with required reporting, will be outlined in P3 performance agreements.

VII. Agency Contact

FOR FURTHER INFORMATION CONTACT: Braden Goetz, U.S. Department of Education, 400 Maryland Avenue SW., Room 11141, PCP, Washington, DC 20202. Telephone: (202) 245-7405 or by email: disconnectedyouth@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: November 19, 2014.
Johan E. Uvin,
Acting Assistant Secretary for Career, Technical, and Adult Education.

Appendices

Appendix A: Evaluation Commitment Form

Appendix B: Examples of Programs Potentially Eligible for Inclusion in Pilots

Appendix C: Competitive Preference Priorities 1 and 2 Evaluation Submission Requirements

Appendix D: Scoring Rubric

Appendix A: Evaluation Commitment Form

An authorized executive of the lead applicant and all other partners, including State, local, tribal, and non-governmental organizations that would be involved in the pilot's implementation, must sign this form and submit it as an attachment to the grant application. The form is not considered in the recommended application page limit.

Commitment To Participate in Required Evaluation Activities

As the lead applicant or a partner proposing to implement a Performance Partnership Pilot through a Federal grant, I/we agree to carry out the following activities, which are considered evaluation requirements applicable to all pilots:

Facilitate Data Collection: I/we understand that the award of this grant requires me/us to facilitate the collection and/or transmission of data for evaluation and performance monitoring purposes to the lead Federal agency and/or its national evaluator in accordance with applicable Federal, State, and local, and tribal laws, including privacy laws.

The type of data that will be collected includes, but is not limited to, the following:

• Demographic information, including participants' gender, race, age, school status, and employment status;

• Information on the services that participants receive; and

• Outcome measures and interim outcome indicators, linked at the individual level, which will be used to measure the effects of the pilots.

The lead Federal agency will provide more details to grantees on the data items required for performance and evaluation after grants have been awarded.

Participate in Evaluation: I/we understand that participation and full cooperation in the national evaluation of the Performance Partnership Pilot is a condition of this grant award. I/we understand that the national evaluation will include an implementation systems analysis and, for certain sites as appropriate, may also include an impact evaluation. My/our participation will include facilitating site visits and interviews; collaborating in study procedures, including random assignment, if necessary; and transmitting data that are needed for the evaluation of participants in the study sample, including those who may be in a control group.

Participate in Random Assignment: I/we agree that if our Performance Partnership Pilot or certain activities in the Pilot is selected for an impact evaluation as part of the national evaluation, it may be necessary to select participants for admission to Performance Partnership Pilot by a random lottery, using procedures established by the evaluator.

Secure Consent: I/we agree to include a consent form for, as appropriate, parents/guardians and students/participants in the application or enrollment packet for all youth in organizations implementing the Performance Partnership Pilot consistent with any Federal, State, local, and tribal laws that apply. The parental/participant consent forms will be collected prior to the acceptance of participants into Performance Partnership Pilot and before sharing data with the evaluator for the purpose of evaluating the Performance Partnership Pilot.

SIGNATURES

Lead Applicant

Print Name

Signature

Organization

Date

Partner

Print Name

Signature

Organization

Date

Partner

Print Name

Signature

Organization

Date

Partner

Print Name

Signature

Organization

Date

Partner

Print Name

Signature

Organization

Date

Partner

Print Name

Signature

Organization

Date

Appendix B: Examples of Programs Potentially Eligible for Inclusion in Pilots

Programs that may be included in pilots are limited to those that target disconnected youth, or are designed to prevent youth from disconnecting from school or work, that provide education, training, employment, and other related social services. Programs that serve youth as well as other populations may still be eligible for inclusion. In general, the Agencies will consider whether the inclusion of a program in a pilot is consistent with, or conflicts with, other significant legal or policy considerations.

The Agencies recognize that for Performance Partnership Pilots to be successful they must protect vulnerable populations and individuals served by programs included in each pilot at the same time that funds are blended and pilots are given new flexibilities. For a program to be blended as part of a pilot, the Federal agency must determine that doing so will: (1) Not deny or restrict an individual's eligibility to services; and (2) not adversely affect vulnerable populations that receive services from that program. More information on these determinations is provided in the FAQ section of the application package.

Some programs may introduce a greater likelihood of adversely affecting vulnerable populations, if blended in a pilot, and therefore warrant greater levels of review during the application process to ensure appropriate safeguards. Certain programs may be particularly well suited for blending if they have broad authority or a purpose well aligned with that of a Performance Partnership Pilot and therefore have very low risk of violating the P3 statutory protections. On the other hand, other programs may not be appropriate for a pilot at all if the Agencies determine that their inclusion would infringe on the statutory protections, or that inclusion would undermine important Federal policies or objectives. Where Federal programs are not eligible or suitable for blending under P3, pilots may consider how to braid funding streams, or align them in ways that promote more effective and efficient outcomes even though each stream of funds maintains a separate identity and remains subject to the requirements of the program for which the funds were appropriated.

To assist applicants in determining whether to propose various Federal programs for inclusion in a pilot using funds from FY 2014 and later years, the Agencies have identified three categories of risk as well as specific examples of the types of programs in each category. This resource identifies programs that should likely not be included in a pilot and those for which agencies believe that applicants would have either a notably high or low burden of proof to show that the statutory protections will not be violated. This is not a comprehensive list of all programs that may be involved in a pilot, and applicants should consider the context of their localities in determining which programs to blend.

In addition, the inclusion of FY 2014 competitive grants that have already been awarded will merit special consideration on a case-by-case basis to determine whether the scope, objectives, and target population(s) of the existing competitive grant award(s) appropriately and sufficiently align with, as well as enhance, the scope, objectives, and target population(s) of the proposed pilot.

Category 1: Programs With Low Likelihood of Adversely Affecting Vulnerable Populations

The Agencies have identified these programs as presenting a low likelihood of adversely affecting vulnerable populations if they are included in a pilot. The Agencies would require assurances, but not plans, for ensuring the protection of individuals and vulnerable populations in receiving services.

These programs may align with the purpose or requirements of Performance Partnership Pilots, or they may have sufficiently broad authority that blending those funds would be highly unlikely to violate the statutory protections.

Agency | Program
Corporation for National and Community Service | Americorps State Grants.
Corporation for National and Community Service | Social Innovation Fund.
Department of Education—Office of Career, Technical and Adult Education | Adult Education and Family Literacy Act.
Department of Education—Office of Career, Technical and Adult Education | Career and Technical Education.
Department of Education—Office of Innovation and Improvement | Promise Neighborhoods.
Institute of Museum and Library Services | National Leadership Grants for Museums/National Leadership Grants for Libraries.
Department of Labor—Employment and Training Administration | Workforce Investment Act—Adult.
Department of Labor—Employment and Training Administration | Workforce Investment Act—Youth.
Department of Labor—Employment and Training Administration | YouthBuild.
Department of Labor—Employment and Training Administration | Workforce Innovation Fund.
Department of Labor—Employment and Training Administration | Workforce Investment Act Section 166 Indian and Native American Youth Program.

Category 2: Programs Requiring Significant Review To Ensure That Vulnerable Populations Are Not Adversely Affected

The Agencies have identified these programs as potentially eligible for blending, but only with significant, robust safeguards in place to ensure that vulnerable populations are not adversely affected. While applicants should propose safeguards as needed, these safeguards would ultimately be negotiated and finalized through the performance agreement.

These programs typically serve highly vulnerable populations, such as homeless youth, foster youth, and students with disabilities. To blend funds from such programs, applicants must convincingly demonstrate that the outcomes of the population served by the original program will not diminish during the pilot.

Evidence may include plans for data collection on the vulnerable population, alternative service options, and alternative sources of funds. A pilot's Performance Agreement will include outcome measurements and accountability mechanisms related to these vulnerable populations.

Agency | Program
Department of Health and Human Services—Administration for Children and Families | Adolescent Pregnancy Prevention Program (APPP).
Department of Health and Human Services—Administration for Children and Families | Basic Centers Program (BCP—Runaway and Homeless Youth).
Department of Health and Human Services—Administration for Children and Families | Chafee Education and Training Vouchers.
Department of Health and Human Services—Administration for Children and Families | Street Outreach Program (SOP—Runaway and Homeless Youth).
Department of Health and Human Services—Administration for Children and Families | Transitional Living Program (TLP—Runaway and Homeless Youth).
Department of Health and Human Services—Substance Abuse and Mental Health Services Administration | “Now Is The Time” Healthy Transitions (HT): Improving Life Trajectories For Youth And Young Adults With, Or At Risk For, Serious Mental Health Conditions.
Department of Health and Human Services—Substance Abuse and Mental Health Services Administration | State Youth Treatment (SYT) Cooperative Agreements.
Department of Labor—Employment and Training Administration | Reintegration of Ex-Offenders.

Category 3: Programs Likely Inappropriate for Pilots Due to High Likelihood of Restricting Eligibility for Services or Adversely Affecting Vulnerable Populations

The Agencies have determined that any blending of funds from these programs would: (1) Deny or restrict an individual's eligibility for services funded by these programs; or (2) adversely affect vulnerable populations that receive such services. These programs may entitle all eligible individuals to a service, or provide individuals with direct benefits such as vouchers, credits, and scholarships. Applicants can try to justify that the blending of these programs' funds would not violate the P3 statutory protections. Such justifications must be compelling.

Agency | Program
Department of Health and Human Services—Administration for Children and Families | Promoting Safe and Stable Families, title IV-B, subpart 2 (discretionary appropriations only).

Appendix C: Competitive Preference Priorities 1 and 2 Evaluation Submission Requirements

In order to be awarded any of the additional points under competitive preference priorities 1 and 2, applicants must include the following two documents as separate attachments to their applications:

1. A Summary Evaluation Plan that describes how the pilot or a component of the pilot (such as a discrete service-delivery strategy) will be rigorously evaluated. The evaluation plan may not exceed 8 pages. Our reviewers will be instructed to read only the first 8 pages of the plan. The plan must include the following:

• A brief description of the research question(s) proposed for study, and an explanation of its/their relevance, including how the proposed evaluation will build on the research evidence base for the project as described in Requirement 4 and how the evaluation findings will be used to improve program implementation.

• A description of the impact-study methodology, including the key outcome measures, the process for forming a comparison or control group, a justification for the target sample size and strategy for achieving it, and the approach to data collection (and sources) that minimizes both cost and potential attrition;

• A proposed evaluation timeline, including dates for submission of required interim and final reports; and

• A plan for selecting and procuring the services of a qualified independent evaluator ¹⁹ prior to enrolling participants (or a description of how one was selected if agreements have already been reached). The applicant must describe how it will ensure that the independent evaluator has the capacity and expertise to conduct the evaluation, including estimating the effort for the evaluator including the time, expertise, and analysis needed to successfully complete the proposed evaluation.

¹⁹ Qualified Independent Evaluator: A qualified independent evaluator is an individual who coordinates with the grantee and the lead Federal agency for the pilot, but works independently on the evaluation and has the capacity to carry out the evaluation, including, but not limited to: Prior experience conducting evaluations of similar design (such as for random assignment evaluations, the evaluator will have successfully conducted a random assignment evaluation in the past); positive past performance on evaluations of a similar design, as evidenced by past performance reviews submitted from past clients directly to the awardee; lead staff with prior experience carrying out a similar evaluation; lead staff with minimum credential (such as a Ph.D. plus 3 years of experience conducting evaluations of a similar nature, or a Master's degree plus 7 years of experience conducting evaluations of a similar nature); and adequate staff time to work on the evaluation.

2. A supplementary Evaluation Budget Narrative, which is separate from the overall application budget narrative and provides a description of the costs associated with funding the proposed program evaluation component, and an explanation of its funding source—i.e., blended funding, start-up funding, or other funding (such as philanthropic). The budget must include a breakout of costs by evaluation activity (such as data collection and participant follow-up), and the applicant must describe a strategy for refining the budget after the services of an evaluator have been procured. There is no page limit for the Evaluation Budget Narrative. The applicant must include travel costs for the independent evaluator to attend at least one in-person conference in Washington, DC during the period of evaluation. All costs included in this supplementary budget narrative must be reasonable and appropriate to the project timeline and deliverables.

In designing their evaluations, we encourage eligible applicants to be familiar with the criteria for well-implemented quasi-experimental and experimental studies as described in both the Department of Education's What Works Clearinghouse Procedures and Standards Handbook (see http://ies.ed.gov/ncee/wwc/pdf/reference_resources/wwc_procedures_v3_0_standards_handbook.pdf) and the Department of Labor's new standards for its Clearinghouse for Labor Evaluation and Research (CLEAR) (see http://clear.dol.gov/sites/default/files/CLEAR_EvidenceGuidelines_1.1_revised.pdf).

The Agencies will review the Summary Evaluation Plans and Evaluation Budget Narrative and provide feedback to applicants that receive competitive preference priority points and that are selected as pilot finalists or alternates. After award, these pilots must submit to the lead Federal agency a detailed evaluation plan of no more than 30 pages that relies heavily on the expertise of a qualified independent evaluator. The detailed evaluation plan must address the Agencies' feedback and expand on the Summary Evaluation Plan.

Appendix D: Scoring Rubric

Reviewers will assign points to an application for each selection sub-criterion, as well as for Competitive Preference Priority 1 (Quasi-Experimental Site-Specific Evaluations) and Competitive Preference Priority 2 (Experimental Site Specific Evaluations). The Department will assign points to Competitive Preference Priority 3 (Promise Zones) if the application includes a letter from the lead organization of a designated Promise Zone describing the contribution of the applicant's proposed activities. To help promote consistency across and within the panels that will review P3 applications, the Department has created a scoring rubric for reviewers to aid them in scoring applications.

The scoring rubric below shows the maximum number of points that may be assigned to each criterion, sub-criterion, and the competitive preference priority.

Selection criteria | Sub-criterion points | Criterion points
A. Need for the Project | 5 | 5
The extent to which the applicant used a recent comprehensive needs assessment completed within the previous three years that draws on representative data on youth in the jurisdiction(s) to be served by the pilot that are disaggregated according to relevant demographic factors to (1) show disparities in outcomes among key sub-populations and (2) identify an appropriate target population of disconnected youth with a high level of need
B. Need for Requested Waivers |  | 10
(B)(1) The extent to which the applicant presents evidence that specific Federal barriers are hindering successful achievement of outcomes for the target population of disconnected youth identified by the applicant and cites the relevant statute, regulation, and/or administrative requirements for which it is seeking flexibility, including waivers | 5 |
(B)(2) The extent to which the applicant provides a justification of how requested flexibility, including blending funds and other waivers, will reduce barriers, increase efficiency, support implementation of the pilot, and produce significantly better outcomes for the target population(s) | 5 |
C. Project Design |  | 25
(C)(1) The extent to which the applicant presents a clear and logical plan that is likely to improve outcomes significantly for the target population by addressing the gaps and the disparities identified through the needs assessment, including the extent to which— | 10 |
(a) The inputs and activities shown in the logic model are necessary and sufficient to achieve the project's objectives, and
(b) The assumptions of the logic model are identified and a rationale is provided for them. For example, applicants proposing job training or employment strategies should include data on the need for particular occupations in the relevant geographic areas
(C)(2) The extent to which the applicant demonstrates that the pilot will use evidence-based and evidence-informed interventions, in addition to systems change, as documented by citations to the relevant evidence | 5 |
(C)(3) The extent to which the pilot will provide intensive, comprehensive, and sustained service pathways and coordinated approaches that are likely to improve outcomes significantly over the short, medium and long term by helping individuals progress seamlessly from one educational stepping stone to another, across work-based training and education, or through other relevant programmatic milestones to improve outcomes. For example, a pilot might prevent gaps in service that would jeopardize the achievement of outcomes by creating a seamless progression of services that provide continuous support as needed to the target population | 5 |
(C)(4) For Federal programs that are proposed to provide funding for pilots, the extent to which the applicant explains how the use of funds for the pilot (a) will not result in denying or restricting the eligibility of individuals for services that (in whole or in part) are otherwise funded by these programs, and (b) based on the best available information, will not otherwise adversely affect vulnerable populations that are the recipients of those services. If the applicant proposes to include FY 2014 competitive grant funds that have already been awarded, the extent to which the applicant demonstrates that the scope, objectives, and target population(s) of the existing award align with the proposed pilot | 5 |
D. Work Plan and Project Management |  | 10
(D) The extent to which the applicant presents a strong work plan and project management approach that includes— | 10 |
(1) A detailed timeline and implementation milestones, including—
(a) A statement of when any necessary preparatory work will be completed, which must be within 180 days of being awarded pilot start-up funding;
(b) The expected start date of a project manager, the expected award dates of subgrants and contracts, and expected dates for establishing agreements among the partners;
(c) The start date of the pilot services, such as participant intake and services;
(d) When the partnership will begin to implement pilot services or changes to administrative systems and policy and which partners are responsible for key tasks;
(e) The number of participants expected to be served under the pilot for each period, such as quarterly or annually (for example, number of participants enrolled, and the number achieving specified education, employment, and other outcomes); and
(f) For an applicant that is proposing an evaluation (as described in competitive preference priorities 1 and 2), when they will begin evaluation activities, including execution of a contract with an independent evaluator
(2) A description of how the proposed budget and budget narrative align with the work plan, identifying how each implementation milestone will be adequately funded as outlined in the proposed budget; and
(3) A description of any existing or anticipated barriers to implementation and how they will be overcome.
(4) A description of the professional qualifications that will be required of the project manager and other key personnel are sufficient to ensure proper management of all grant activities, including timely reporting and the ability to manage a strategic partnership
E. Partnership Capacity |  | 15
(E)(1) The extent to which the applicant demonstrates that it has an effective governance structure in which partners that are necessary to successfully implement the pilot are represented and partners have the necessary authority, resources, expertise and incentives to achieve the pilot's goals, resolve unforeseen issues, and sustain efforts to the extent possible after the project period ends, including by demonstrating the extent to which, and how, participating partners have successfully collaborated to improve outcomes for disconnected youth in the past. The proposed governance structure should reflect a plan for effective cooperation across levels of government, including a description of the State, local, and tribal roles in the partnership, or across entities within the same level of government to improve outcomes for disconnected youth, such as through coordinated program delivery, easier program navigation for participants, or identification and resolution of state and local policy barriers | 10 |
(E)(2) The extent to which the applicant demonstrates that its proposal was designed with input from all relevant stakeholders, including disconnected youth and other community partners. Where the project design includes job training strategies, the extent of employer input and engagement in the identification of skills and competencies needed by employers, the development of the curriculum, and the offering of work-based learning opportunities, including pre-apprenticeship and registered apprenticeship, will be considered | 5 |
F. Data Capacity |  | 30
(F)(1) The extent to which the applicant demonstrates the capacity to collect, analyze, and use data for decision-making, learning, continuous improvement, and accountability, and/or has a strong plan to bridge the gaps in its ability to do so, including the extent to which the applicant has, and will continue to: | 5 |
(a) Manage and maintain computerized administrative data systems to track program participants, services, and outcomes;
(b) Execute data-sharing agreements with programs or organizations to share information with program partners and evaluators for case management, performance management, and evaluation purposes in accordance with Federal, State, local, and other privacy laws and requirements;
(c) Use data to determine cost-effective strategies for improving outcomes; and
(d) Regularly analyze program data to assess the pilot's progress, identify operational strengths and weaknesses and determine how implementation can be strengthened to improve outcomes
(F)(2) The strength of the applicant's plan to collect, store, manage and link data in ways that comply with all relevant Federal, State, and local privacy laws and regulations to ensure the protection of personally identifiable information | 5 |
(F)(3) The extent to which the applicant shows how the outcomes of the proposed pilot will be a significant improvement compared with what might have occurred in its absence, both during the pilot project period and, for longer-term outcomes, beyond the project period | 10 |
(F)(4) The extent to which proposed outcome measures and interim indicators, as well as their measurement methodologies and progress milestones, are appropriate and sufficient to gauge progress toward pilot objectives | 5 |
(F)(5) The extent to which the data sources for the outcome measures and interim indicators will be accessible and independently audited or validated for accuracy | 5 |
G. Budget and Budget Narrative | 5 | 5
The extent to which the costs are reasonable in relation to the objectives, design, and potential significance of the project.
Total | 100 | 100
Competitive Preference Priority 1: Quasi-Experimental Site-Specific Evaluations. Under this priority, competitive preference will be given to applicants that propose to conduct an independent evaluation of the impacts on disconnected youth of their overall program or specific components of their program using a quasi-experimental design. Proposals will be scored based on the clarity and feasibility of the proposed evaluation design and the applicants' demonstrated expertise in planning and conducting a quasi-experimental evaluation study | 5 | 5
Competitive Preference Priority 2: Experimental Site-Specific Evaluations. Under this priority, preference will be given to applicants that propose to conduct an independent evaluation of the impacts of their overall program or components of their programs on disconnected youth using a randomized controlled trial. Applicants' proposals will be scored based on the clarity and feasibility of the proposed evaluation design and the applicants' demonstrated expertise in planning and conducting experimental evaluation studies | 10 | 10
Competitive Preference Priority 3: Promise Zones. This priority is for projects that are designed to serve and coordinate with a federally designated Promise Zone | 2 | 2

The reviewers will be asked to use the general ranges below as a guide when awarding points.

Maximum point value | Quality of applicant's response: Low | Quality of applicant's response: Medium | Quality of applicant's response: High
10 | 0-2 | 3-7 | 8-10
5 | 0-1 | 2-3 | 4-5

[FR Doc. 2014-27775 Filed 11-21-14; 8:45 am]

BILLING CODE 4000-01-P